FEDERAL COMMUNICATIONS COMMISSION

47 CFR Parts 1 and 54

[WC Docket No. 10-90, WT Docket No. 10-208; FCC 17-11]

Connect America Fund; Universal Service Reform—Mobility Fund

Correction

In rule document 2017-05665 appearing on page 15422 in the issue of Tuesday, March 28, 2017, make the following corrections:

§ 54.1016 Letter of credit (a)(2) [Corrected]

1. On page 15452, in the third column, in the 51st through 54th line, paragraph (2) should read:

“(2) The bank issuing the letter of credit shall be acceptable to the Commission. A bank that is acceptable to the Commission is:”

§ 54.1019 Annual reports (f) [Corrected]

2. On page 15455, in the second column, in the 56th through 64th line, paragraph (f) should read:

“(g) A mobile eligible telecommunications carrier that submits the annual reporting information required by this section within three (3) days of the July 1 deadline will not receive a reduction in support if the mobile eligible telecommunications carrier has not missed the July 1 deadline in any prior year.”

§ 54.1020 Milestone reports (2)(g) [Corrected]

3. On pages 15455 and 15456, § 54.1020(2)(g) should read:

“(f) A mobile eligible telecommunications carrier that submits the milestone reporting information required by this section within three (3) days of the deadline will not receive a reduction in support if the mobile eligible telecommunications carrier has not missed the deadline in any prior year.”

[FR Doc. C1-2017-05665 Filed 4-3-17; 8:45 am]

BILLING CODE 1301-00-D